DEPARTMENT OF THE INTERIOR

Bureau of Land Management

[OR-030-1020-PG; G 03-0035]

Meeting Notice for the Southeast Oregon Resource Advisory Council

AGENCY: Bureau of Land Management (BLM), Vale District.

SUMMARY: The Southeast Oregon Resource Advisory Council (SEORAC) will meet in the Lewis and Clark conference room at the Holiday Inn, Ontario, OR 97641, 541-573-3370 from 8 a.m. to 5 p.m., Mountain Time (MT), on Monday, February 24, 2003. On Tuesday, February 25, 2003 there will be a tour of the National Historic Oregon Trail Interpretative Center in Baker City, OR.

The meeting topics that may be discussed by the Council include a discussion of issues within southeast Oregon related to North Lake Recreation Plan, Birch Creek Management Plan, Wildland Fire Board, OHV, Wood River Project, Wild Horse & Burro, Rangeland Assessment, Federal officials' updates, and other matters as may reasonably come before the Council. The entire meeting is open to the public. Information to be distributed to the Council members is requested in written format 10 days prior to the Council meeting. Public comment is scheduled for 11:15 a.m. to 11:45 a.m., Mountain Time (MT), on Monday, February 24, 2003. For the tour scheduled for Tuesday, February 25, 2003, please contact the BLM office listed below for exact times as the date approaches.

FOR FURTHER INFORMATION CONTACT: Additional information concerning the SEORAC may be obtained from Peggy Diegan, Management Assistant/Webmaster, Vale District Office, 100 Oregon Street, Vale, OR 97918 (541) 473-3144, or Peggy_Diegan@or.blm.gov and/or from the following Web site: http://www.or.blm.gov/SEOR-RAC.

Dated: November 26, 2002.
David R. Henderson,
District Manager.

[FR Doc. 02-30776 Filed 12-3-02; 8:45 am]

BILLING CODE 4310-33-M